DEPARTMENT OF TRANSPORTATION

Federal Motor Carrier Safety Administration

[Docket No. FMCSA-2023-0267]

RIN 2126-AB56

FMCSA Registration System Modernization

AGENCY: Federal Motor Carrier Safety Administration (FMCSA), Department of Transportation (DOT).

ACTION: Notice of virtual public meeting.

SUMMARY: FMCSA announces a virtual public meeting to engage stakeholders—including motor carriers, brokers, freight forwarders, insurance companies, financial institutions, process agents, blanket companies, and third-party service providers—to hear more on their perspectives on improving the registration experience with FMCSA. This is the second instance of FMCSA's Registration Modernization Stakeholder Day; the first meeting was held in person at FMCSA headquarters on January 17, 2024.

DATES: This virtual public meeting will be held on May 29, 2024, from 1 to 3 p.m. EST. A copy of the agenda will be available in advance of the meeting at https://www.fmcsa.dot.gov/registration/fmcsa-registration-modernization-stakeholder-day-ii.

ADDRESSES: The meeting will be held virtually. The link will be sent to participants after they register. Those interested in attending this virtual public meeting must register at https://www.fmcsa.dot.gov/registration/fmcsa-registration-modernization-stakeholder-day-ii by 11:59 p.m. EST, on May 24, 2024.

FOR FURTHER INFORMATION CONTACT: Gio Vizcardo, Knowledge Manager, Office of Registration, FMCSA, 1200 New Jersey Avenue SE, Washington, DC 20590-0001; (202) 366-0356; mcrs-social@dot.gov.

Services for individuals with disabilities: For information on facilities or services for individuals with disabilities or to request special assistance at the meeting, contact Gio Vizcardo using one of the above means by 11:59 p.m. EST, on April 29, 2024.

SUPPLEMENTARY INFORMATION:

Background

FMCSA is developing a new online registration system to improve the transparency and efficiency of FMCSA's registration procedures and implement statutory requirements related to the registration program. FMCSA seeks user perspectives on improving the registration experience when engaging with FMCSA's registration system. During this meeting, FMCSA will invite attendees to participate after providing initial presentations on preliminary system designs and functionality. FMCSA moderators will facilitate discussions on what potential users would like to see, as well as what would not be helpful from a user experience perspective.

Meeting Information

This meeting is intended for current and potential users of a new online registration system, including but not limited to:

• Motor carriers;

• Brokers and freight forwarders;

• Insurance companies/financial institutions and process agents/blanket companies; and

• Third party service providers.

The full meeting agenda will be available on the registration site (see ADDRESSES above for instructions on meeting registration) in advance of the meeting.

Sue Lawless,
Acting Deputy Administrator.

[FR Doc. 2024-09356 Filed 4-30-24; 8:45 am]

BILLING CODE 4910-EX-P